DEPARTMENT OF ENERGY

Federal Energy Regulatory Commission

Combined Notice of Filings

Take notice that the Commission has received the following Natural Gas Pipeline Rate and Refund Report filings:

Filings Instituting Proceedings

Docket Numbers: RP15-1277-000.

Applicants: Algonquin Gas Transmission, LLC.

Description: § 4(d) Rate Filing: Pro Forma Operational Balancing Agreement to be effective 11/1/2015.

Filed Date: 9/17/15.

Accession Number: 20150917-5092.

Comments Due: 5 p.m. ET 9/29/15.

Docket Numbers: RP15-1278-000.

Applicants: Maritimes & Northeast Pipeline, L.L.C.

Description: § 4(d) Rate Filing: Pro Forma Operational Balancing Agreement to be effective 11/1/2015.

Filed Date: 9/17/15.

Accession Number: 20150917-5093.

Comments Due: 5 p.m. ET 9/29/15.

Docket Numbers: RP15-1279-000.

Applicants: Texas Eastern Transmission, LP.

Description: § 4(d) Rate Filing: Pro Forma Operational Balancing Agreement to be effective 11/1/2015.

Filed Date: 9/17/15.

Accession Number: 20150917-5099.

Comments Due: 5 p.m. ET 9/29/15.

Docket Numbers: RP15-1280-000.

Applicants: Enable Gas Transmission, LLC.

Description: § 4(d) Rate Filing: Fuel Tracker Filing Effective November 2015 to be effective 11/1/2015.

Filed Date: 9/18/15.

Accession Number: 20150918-5066.

Comments Due: 5 p.m. ET 9/30/15.

Docket Numbers: RP15-1281-000.

Applicants: ANR Pipeline Company.

Description: § 4(d) Rate Filing: Compliance to CP14-514—Sulphur Springs Revisions to be effective 11/1/2015.

Filed Date: 9/18/15.

Accession Number: 20150918-5109.

Comments Due: 5 p.m. ET 9/30/15.

Docket Numbers: RP15-1282-000.

Applicants: Equitrans, L.P.

Description: § 4(d) Rate Filing: GSS Storage Ratchet and Maximum Storage Balance Filing to be effective 11/1/2015.

Filed Date: 9/18/15.

Accession Number: 20150918-5115.

Comments Due: 5 p.m. ET 9/30/15.

Docket Numbers: RP15-1283-000.

Applicants: Equitrans, L.P.

Description: § 4(d) Rate Filing: Amendment of Formula-Based Negotiated Rate Agreement Filing Effective 11/01/2015 to be effective 11/1/2015.

Filed Date: 9/18/15.

Accession Number: 20150918-5116.

Comments Due: 5 p.m. ET 9/30/15.

Docket Numbers: RP15-1284-000.

Applicants: Centra Pipelines Minnesota Inc.

Description: Petition for Approval of Settlement submitted by Centra Pipelines Minnesota Inc. under RP15-1284.

Filed Date: 9/18/15.

Accession Number: 20150918-5118.

Comments Due: 5 p.m. ET 9/30/15.

Docket Numbers: RP15-1285-000.

Applicants: Enable Mississippi River Transmission, L.

Description: § 4(d) Rate Filing: 2015 Fuel Adjustment Filing to be effective 11/1/2015.

Filed Date: 9/18/15.

Accession Number: 20150918-5133.

Comments Due: 5 p.m. ET 9/30/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated September 21, 2015.
Nathaniel J. Davis, Sr.,
Deputy Secretary.

[FR Doc. 2015-24532 Filed 9-25-15; 8:45 am]

BILLING CODE 6717-01-P